DEPARTMENT OF TRANSPORTATION

Federal Aviation Administration

14 CFR Part 39

[Docket No. FAA-2010-0171; Directorate Identifier 2009-NM-185-AD]

RIN 2120-AA64

Airworthiness Directives; Airbus Model A300 Series Airplanes, Airbus Model A300 B4-600 Series Airplanes, Airbus Model A300 B4-600R Series Airplanes, and A310 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: During a maintenance check performed by an A310 operator, the recommended modification of the lower attachment beam of rack 101VU by accomplishment of Airbus Service Bulletin (SB) A310-53-2076 was embodied on the aeroplane, leading the operator to find three cracks on the FR15A crossbeam above the NLG [nose landing gear] box at the splicing with rack 107VU fitting. This condition, if not detected and corrected, could degrade the structural integrity of the crossbeam on NLG FR15A web attachment fitting of rack 107VU. Rack 107VU contains major airworthiness system components whose functioning could be adversely affected by the loss of the attachment fitting. As the A300 and A300-600 aeroplanes share this design feature, they are also affected. The proposed AD would require actions that are intended to address the unsafe condition described in the MCAI.

DATES: We must receive comments on this proposed AD by April 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2010-0171; Directorate Identifier 2009-NM-185-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0165, dated July 31, 2009 (referred to after this as “the MCAI”), to correct an unsafe condition for the specified products. The MCAI states:

During a maintenance check performed by an A310 operator, the recommended modification of the lower attachment beam of rack 101VU by accomplishment of Airbus Service Bulletin (SB) A310-53-2076 was embodied on the aeroplane, leading the operator to find three cracks on the FR15A crossbeam above the NLG [nose landing gear] box at the splicing with rack 107VU fitting.

This condition, if not detected and corrected, could degrade the structural integrity of the crossbeam on NLG FR15A web attachment fitting of rack 107VU. Rack 107VU contains major airworthiness system components whose functioning could be adversely affected by the loss of the attachment fitting.

As the A300 and A300-600 aeroplanes share this design feature, they are also affected.

For the reasons stated above, this AD requires repetitive inspections for cracks of the crossbeam on NLG FR15A web face attachment fitting of rack 107VU and corrective action, depending on findings.

The corrective actions include contacting Airbus for repair instructions, and doing the repair if any crack is found. You may obtain further information by examining the MCAI in the AD docket.

Relevant Service Information

Airbus has issued the following service bulletins:

• Airbus Mandatory Service Bulletin A300-53-0388, including Appendix 01, dated March 17, 2009;

• Airbus Mandatory Service Bulletin A300-53-6164, including Appendix 01, dated March 17, 2009; and

• Airbus Mandatory Service Bulletin A310-53-2131, including Appendix 01, dated March 17, 2009.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 206 products of U.S. registry. We also estimate that it would take about 2 work-hours per product to comply with the basic requirements of this proposed AD. The average labor rate is $85 per work-hour. Based on these figures, we estimate the cost of the proposed AD on U.S. operators to be $35,020, or $170 per product, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2010-0171; Directorate Identifier 2009-NM-185-AD.

Comments Due Date

(a) We must receive comments by April 12, 2010.

Affected ADs

(b) None.

Applicability

(c) This AD applies to all Airbus Model A300 B2-1A, B2-1C, B2K-3C, B2-203, B4-2C, B4-103, B4-203, B4-601, B4-603, B4-620, B4-622, B4-605R, B4-622R, F4-605R, F4-622R, C4-605R Variant F airplanes, and A310-203, -204, -221, -222, -304, -322, -324, and -325 airplanes; certificated in any category.

Subject

(d) Air Transport Association (ATA) of America Code 53: Fuselage.

Reason

(e) The mandatory continuing airworthiness information (MCAI) states:

During a maintenance check performed by an A310 operator, the recommended modification of the lower attachment beam of rack 101VU by accomplishment of Airbus Service Bulletin (SB) A310-53-2076 was embodied on the aeroplane, leading the operator to find three cracks on the FR15A crossbeam above the NLG [nose landing gear] box at the splicing with rack 107VU fitting.

This condition, if not detected and corrected, could degrade the structural integrity of the crossbeam on NLG FR15A web attachment fitting of rack 107VU. Rack 107VU contains major airworthiness system components whose functioning could be adversely affected by the loss of the attachment fitting.

As the A300 and A300-600 aeroplanes share this design feature, they are also affected.

For the reasons stated above, this AD requires repetitive inspections for cracks of the crossbeam on NLG FR15A web face attachment fitting of rack 107VU and corrective action, depending on findings.

The corrective actions include contacting Airbus for repair instructions, and doing the repair if any crack is found.

Compliance

(f) You are responsible for having the actions required by this AD performed within the compliance times specified, unless the actions have already been done.

Actions

(g) Unless already done, do the following actions.

(1) At the later of the times specified in paragraph (g)(1)(i) and (g)(1)(ii) of this AD: Do a detailed inspection for cracks of the crossbeam on the nose landing gear FR15A web attachment fitting of rack 107VU, in accordance with the Accomplishment Instructions in the applicable service bulletin specified in Table 1 of this AD.

(i) Before the accumulation of 6,600 total flight cycles.

(ii) Within 2,300 flight cycles or 30 months after the effective date of this AD, whichever occurs first.

(2) Thereafter, at intervals not to exceed 2,300 flight cycles, repeat the inspection specified in paragraph (g)(1) of this AD.

Table 1—Service Bulletins
Model | Service Bulletin | Date
Airbus A300 series airplanes | Airbus Mandatory Service Bulletin A300-53-0388, including Appendix 01 | March 17, 2009.
Airbus 300-600 series airplanes | Airbus Mandatory Service Bulletin A300-53-6164, including Appendix 01 | March 17, 2009.
Airbus A310 series airplanes | Airbus Mandatory Service Bulletin A310-53-2131, including Appendix 01 | March 17, 2009.

(3) If any crack is found during any inspection required by paragraphs (g)(1) and (g)(2) of this AD, before further flight contact Airbus for approved repair instructions and do the repair.

(4) Submit an inspection report of the inspection required by paragraph (g)(1) of this AD to Airbus Customer Services Directorate, 1 Rond Point Maurice Bellonte, 31707 Blagnac Cedex, France, telephone +33 5 61 93 33 33; fax +33 5 61 93 28 06; e-mail: sb.reporting@airbus.com, at the applicable time specified in paragraph (g)(4)(i) or (g)(4)(ii) of this AD. The report must include the information specified on the inspection report sheet provided in Appendix 01 of the applicable service bulletin identified in Table 1 of this AD.

(i) If the inspection was done on or after the effective date of this AD: Submit the report within 30 days after the inspection.

(ii) If the inspection was done before the effective date of this AD: Submit the report within 30 days after the effective date of this AD.

FAA AD Differences

Note 1: This AD differs from the MCAI and/or service information as follows: No differences.

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI European Aviation Safety Agency Airworthiness Directive 2009-0165, dated July 31, 2009; Airbus Mandatory Service Bulletin A300-53-0388, including Appendix 01, dated March 17, 2009; Airbus Mandatory Service Bulletin A300-53-6164, including Appendix 01, dated March 17, 2009; and Airbus Mandatory Service Bulletin A310-53-2131, including Appendix 01, dated March 17, 2009; for related information.

Issued in Renton, Washington, on February 17, 2010.
Stephen P. Boyd,
Acting Manager, Transport Airplane Directorate, Aircraft Certification Service.

[FR Doc. 2010-3816 Filed 2-24-10; 8:45 am]

BILLING CODE 4910-13-P